SMALL BUSINESS ADMINISTRATION

SBA Guaranteed Business Loans to Cooperatives

Correction

In notice document 2019-04940, appearing on page 9858, in the issue of Monday, March 18, 2019 make the following correction:

On page 9858, in the second column, in the third paragraph, beginning on the second line, “http://ems8.intellor.com/do=register&t=1&p=813511” should read, “http://ems8.intellor.com?do=register&t=1&p=813511”.

[FR Doc. C1-2019-04940 Filed 3-21-19; 8:45 am]

BILLING CODE 1301-01-D